DEPARTMENT OF HEALTH AND HUMAN SERVICES

Announcement of Opportunity To Become an Office on Women's Health (OWH) Self-Measured Blood Pressure (SMBP) Program Partner; Notice by the U.S. Department of Health and Human Services

AGENCY: Office on Women's Health, Office of the Assistant Secretary for Health, Office of the Secretary, U.S. Department of Health and Human Services.

ACTION: Notice.

SUMMARY: The U.S. Department of Health and Human Services' (HHS) Office on Women's Health (OWH) invites public and private sector organizations to apply to become an OWH Self-Measured Blood Pressure (SMBP) Partner. This ongoing partnership opportunity engages support from partner organizations to promote SMBP and encourages women to maintain healthy blood pressure levels at every age and stage of their lives. Through the OWH SMBP Partnership Program (“SMBP Program”), OWH seeks to increase knowledge and access to SMBP information and resources, as well as encourage organizations to address heart health disparities, prevent hypertension, promote self-measured blood pressure, and improve health equity on a community level. The SMBP Program will launch during the 2nd annual observance of National Women's Blood Pressure Awareness Week (NWBPAW), October 17-23, 2021. The SMBP Program will build on momentum generated by NWBPAW, which emphasizes the importance of blood pressure control and empowers women to improve their heart health through simple, everyday actions.

Eligibility: Any organization may apply to be a SMBP Program partner. The selected SMBP Program partners may be recognized for their commitment and their work toward achieving the goals of the program.

SMBP Program partners can be public and private organizations such as those at the state, local, county, and tribal levels, non-governmental organizations, non-profit organizations, businesses, academic organizations, organizations that impact health outcomes, philanthropic organizations, and tribal organizations that identify themselves as being aligned with or promoting the goals of the program.

Organizations that work in areas such as fitness, nutrition, housing, health education, and those working to improve health outcomes in women may apply. Social organizations that work with, or have access to large populations of women, organizations promoting women in sports, and child-care facilities may apply. Organizations that have a defibrillator accessible onsite and are willing to make a self-measured blood pressure cuff accessible onsite, and organizations that identify themselves as being aligned with, or promoting blood pressure control are encouraged to apply.

All organizations may apply.

Individuals are not eligible to become an SMBP Program partner.

Applicants shall submit a letter of interest and identify how they support or plan to support the SMBP Program goals. Applicants will be considered according to the organization's commitment to support those goals.

SMBP Program partners may receive recognition from OWH on womenshealth.gov, girlshealth.gov, or OWH Social Media platforms. They may also receive SMBP information and resources for dissemination.

The following activities may be considered as an organization's demonstrated commitment to the SMBP Program's overarching goals and objectives:

• Working to increase behaviors women can take to improve their heart health;

• Increasing access to resources and information regarding hypertension, cardiovascular disease, health risks associated with high blood pressure, and factors that increase the risk of high blood pressure;

• Increasing knowledge and utilization of SMBP activities (also referred to as “self-monitoring”);

• Increasing understanding of blood pressure needs and understanding of blood pressure numbers;

• Increasing number of women collaborating with healthcare providers with a focus on self-monitoring blood pressure control, with special consideration to adapt or modify activities to meet the needs of diverse, minority, underserved, and hard to reach populations;

• Expanding efforts to reach those disproportionately affected by high blood pressure, including Black or African American women, Latina women, Asian/Pacific Islander women, American Indian/Alaska Native women, women of reproductive age, women in rural communities, and women across the lifespan, to include those negatively affected by comorbidities and social determinants of health;

• Developing partnerships to promote SMBP across a variety of sectors, including business, community, academic, education, faith based, government, health care, media, public health, and technology;

• Partnering with national, state, tribal, or local volunteer organizations to provide education, training, or programs regarding health promotion, disease prevention, hypertension, SMBP, health disparities, health equity, and well-being; and/or

• Including information in their public facing materials about programs for hypertension, addressing SMBP, eliminating disparities, achieving health equity, and/or promoting well-being in communities.

Funds: Neither HHS nor OWH will provide funds to support SMBP Program partners. Applicants, OWH, and SMBP Program partners will not be expected to contribute funds.

Application: Organizations may apply to be an SMBP Program partner. Organizations should submit a letter of interest acknowledging their support of the SMBP Program's overarching goals. Organizations interested in being SMBP Program partners shall identify in their letters of interest those activities from the list noted above that demonstrate commitment to the SMBP Program's overarching goals and objectives and indicate how they address or support those goals.

DATES: Letters of interest to become an SMBP Program partner should be submitted to OWHBPPartner@hhs.gov. Letters of interest will be accepted starting October 1, 2021 and will be reviewed periodically. OWH will conduct informational webinars for interested applicants. Interested organizations may use the following links to register for the informational webinars:

• September 24, 2021, at 1 p.m. Eastern Time (ET)

• September 27, 2021, at 1 p.m. Eastern Time (ET)

ADDRESSES: Letters of interest can be submitted via email to OWHBPPartner@hhs.gov.

FOR FURTHER INFORMATION CONTACT: Keiva Nelson, Office on Women's Health, Office of the Assistant Secretary for Health, U.S. Department of Health and Human Services; 200 Independence Avenue SW, 712E, Washington, DC 20201; Email: OWHBPPartner@hhs.gov.

SUPPLEMENTARY INFORMATION: Background: The HHS Office on Women's Health (OWH) is charged with providing expert advice and consultation to the Secretary concerning scientific, legal, ethical, and policy issues related to women's health. OWH establishes short-range and long-range goals within the Department and coordinates on activities within the Department that relate to disease prevention, health promotion, service delivery, research, and public and health care professional education, for issues of particular concern to women throughout their lifespan. OWH monitors the Department's activities regarding women's health and identifies needs regarding the coordination of activities. OWH is also responsible for facilitating the exchange of information through the National Women's Health Information Center. Additionally, OWH coordinates efforts to promote women's health programs and policies with the private sector.

Requirements of Interested Organizations: OWH invites organizations to submit a letter of interest to become a SMBP Program partner.

Organizations selected by OWH to be SMBP Program partners will sign a letter of understanding (LOU) with OWH outlining the terms and parameters of their support for the SMBP Program. Selection as an SMBP Program partner does not imply any federal endorsement of the collaborating organization's general policies, activities, or products.

Eligibility for Interested Organizations: To be eligible to become an SMBP Program partner, an organization shall: (1) Have a demonstrated interest in, understanding of, and experience with working to promote access to resources and information regarding hypertension, cardiovascular disease, factors that increase the risk of high blood pressure, health risks associated with high blood pressure, prevention strategies and self-measured blood pressure, health disparities, and health equity or (2) have an organizational or corporate mission that is aligned with the SMBP Program's goals; and (3) agree to sign a LOU with OWH, which will set forth the details of how the organization is supporting the goals of the SMBP Program.

Letter of Interest Requirements: Each SMBP Program letter of interest shall contain: (1) Organization name, location, website, and submitter's contact information; (2) a brief description of the organization's mission and/or values; and (3) a description of how the organization supports or plans to support the SMBP Program goals.

Submission of a letter of interest does not guarantee acceptance as a SMBP Program partner.

Authority: 42 U.S.C. 237a and 42 U.S.C. 300u-2(a).

Dated: September 14, 2021.
Dorothy A. Fink,
Deputy Assistant Secretary for Women's Health.

[FR Doc. 2021-20456 Filed 9-21-21; 8:45 am]

BILLING CODE P